DEPARTMENT OF JUSTICE

Antitrust Division

Proposed Termination of Final Decree

Notice is hereby given that Ludowici Roof Tile, Inc. (“Ludowici”), successor in interest to Ludowici-Celadon Company (“Ludowici-Celadon”), a defendant in Unitd States v. Ludowici-Celadon Co., et al., In Equity No. 9022 (N.D. III. Mar. 12, 1929), has filed a motion to terminate the final Decree entered in that matter on March 18, 1929 (the “Decree”). The Antitrust Division of the Department of Justice, in a Stipulation also filed with the Court, tentatively has consented to termination of the Decree, but has reserved the right to withdraw its consent pending receipt of public comments.

On March 12, 1929, the United States filed a Petition against Ludowici-Celadon and sixteen individuals, including certain exclusive sales agents, “preferred roofers,” and certain Ludowici-Celadon officers, directors, and employees. The Petition alleged that the defendants conspired to restrain interstate trade and commerce in the manufacture and sale of “roofing tile” and to monopolize and attempt to monopolize such trade. The Decree defined “roofing tile” as “tile produced from shale or clay and used as a covering for pitched roofs, cornices and other exposed surfaces of buildings and structures.”

The Decree perpetually enjoined the defendants from continuing the conspiracy or entering into any combination similar thereto. The Decree prohibited the defendants from engaging in any exclusionary or otherwise potentially or patently anticompetitive conduct. The Decree also perpetually enjoined Ludowici-Celadon from acquiring ownership or control of any additional plants engaged in the manufacture and sale of roofing tile.

The Department has filed with the Court a memorandum setting forth the reasons the United States believes that termination of the Decree would serve the public interest. Copies of the motion papers, the Stipulation containing the United States' tentative consent, the United States' memorandum, and all other papers filed with the Court in connection with the motion will be available for inspection at the Antitrust Documents Group, Antitrust Division, Room 215, 325 7th Street, NW., Washington, DC 20530, and at the Office of the Clerk of the United States District court for the Northern District of Illinois, Eastern Division. Copies of these materials may be obtained from the Antitrust Division upon request and payment of the copying fees set by Department of Justice regulations.

Interested persons may submit comments regarding the proposed termination of the Decree to the United States. Such comments must be received by the Antitrust Division within sixty days and will be filed with the Court by the United States. Comments should be addressed to Maribeth Petrizzi, Chief, Litigation II Section, Antitrust Division, U.S. Department of Justice, 1401 H Street, NW., Suite 3000, Washington, DC 20530 (202-307-0924).

Dorothy B. Fountain,
Deputy Director of Operations, Antitrust Division.

[FR Doc. 05-22664 Filed 11-15-05; 8:45 am]

BILLING CODE 4410-11-M